DEPARTMENT OF DEFENSE

GENERAL SERVICES ADMINISTRATION

NATIONAL AERONAUTICS AND SPACE ADMINISTRATION

[OMB Control No. 9000-0144; Docket 2014-0055; Sequence 22]

Federal Acquisition Regulation; Submission for OMB Review; Payment by Electronic Fund Transfer

AGENCY: Department of Defense (DOD), General Services Administration (GSA), and National Aeronautics and Space Administration (NASA).

ACTION: Notice of request for public comments regarding an extension to an existing OMB information collection.

SUMMARY: Under the provisions of the Paperwork Reduction Act, the Regulatory Secretariat Division will be submitting to the Office of Management and Budget (OMB) a request to review and approve an extension of a previously approved information collection requirement concerning payment by electronic fund transfer. A notice was published in the Federal Register at 79 FR 33556 on June 11, 2014. No comments were received.

DATES: Submit comments on or before September 19, 2014.

ADDRESSES: Submit comments identified by Information Collection 9000-0144, Payment by Funds Transfer, by any of the following methods:

• Regulations.gov: http://www.regulations.gov. Submit comments via the Federal eRulemaking portal by searching the OMB control number 9000-0144. Select the link that corresponds with “Information Collection 9000-0144, Payment by Funds Transfer”. Follow the instructions provided on the screen. Please include your name, company name (if any), and “Information Collection 9000-0144, Payment by Funds Transfer”, on your attached document.

• Fax: 202-501-4067.

• Mail: General Services Administration, Regulatory Secretariat Division (MVCB), 1800 F Street NW., Washington, DC 20405. ATTN: Ms. Flowers/IC 9000-0144, Payment by Funds Transfer.

Instructions: Please submit comments only and cite Information Collection 9000-0144, Payment by Funds Transfer, in all correspondence related to this collection. All comments received will be posted without change to http://www.regulations.gov, including any personal and/or business confidential information provided.

FOR FURTHER INFORMATION CONTACT: Mr. Edward Chambers, Procurement Analyst, Acquisition Policy Division, GSA 202-501-3221, or Edward.chambers@gsa.gov.

SUPPLEMENTARY INFORMATION:

A. Purpose

The FAR requires certain information to be provided by contractors which would enable the Government to make payments under the contract by electronic fund transfer (EFT). The information necessary to make the EFT transaction is specified in clause 52.232-33, Payment by Electronic Funds Transfer—Central Contractor Registration, which the contractor is required to provide prior to award, and clause 52.232-34, Payment by Electronic Funds Transfer—Other than Central Contractor Registration, which requires EFT information to be provided as specified by the agency to enable payment by EFT.

B. Annual Reporting Burden

Respondents: 14,000.

Responses per Respondent: 10.

Annual Responses: 140,000.

Hours per Response: .5.

Total Burden Hours: 70,000.

C. Public Comment

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0144, Payment by Electronic Funds Transfer, in all correspondence.

Dated: August 15, 2014.
Karlos Morgan,
Acting Director, Federal Acquisition Policy Division, Office of Government-Wide Acquisition Policy, Office of Acquisition Policy, Office of Government-Wide Policy.

[FR Doc. 2014-19811 Filed 8-19-14; 8:45 am]

BILLING CODE 6820-EP-P